DEPARTMENT OF ENERGY

Federal Energy Regulatory Commission

Combined Notice of Filings #1

July 22, 2010.

Take notice that the Commission received the following exempt wholesale generator filings:

Docket Numbers: EG10-54-000.

Applicants: Solar Partners I, LLC.

Description: Notice of Self-Certification of Exempt Wholesale Generator Status of Solar Partners I, LLC.

Filed Date: 07/21/2010.

Accession Number: 20100721-5171.

Comment Date: 5 p.m. Eastern Time on Wednesday, August 11, 2010.

Docket Numbers: EG10-55-000.

Applicants: Solar Partners II, LLC.

Description: Notice of Self-Certification of Exempt Wholesale Generator Status of Solar Partners II, LLC.

Filed Date: 07/21/2010.

Accession Number: 20100721-5172.

Comment Date: 5 p.m. Eastern Time on Wednesday, August 11, 2010.

Docket Numbers: EG10-56-000.

Applicants: Solar Partners VIII, LLC.

Description: Notice of Self-Certification of Exempt Wholesale Generator Status of Solar Partners VIII, LLC.

Filed Date: 07/21/2010.

Accession Number: 20100721-5175.

Comment Date: 5 p.m. Eastern Time on Wednesday, August 11, 2010.

Take notice that the Commission received the following electric rate filings:

Docket Numbers: ER05-305-007; ER04-878-006.

Applicants: Pinelawn Power LLC; Equus Power I, L.P.

Description: J-Power North America Holding, Ltd submits revisions to the Market-Based Rate Tariffs for Pinelawn Power LLC et al.

Filed Date: 07/19/2010.

Accession Number: 20100719-0214.

Comment Date: 5 p.m. Eastern Time on Monday, August 9, 2010.

Docket Numbers: ER07-1106-007.

Applicants: ArcLight Energy Marketing, LLC.

Description: ArcLight Energy Marketing, LLC submits requested additional information as supplement to its SPP Region Triennial.

Filed Date: 07/16/2010.

Accession Number: 20100719-0064.

Comment Date: 5 p.m. Eastern Time on Friday, August 6, 2010.

Docket Numbers: ER08-695-004.

Applicants: New England Conference of Public Utilities.

Description: Errata filing of New York Independent System Operator, Inc.

Filed Date: 07/22/2010.

Accession Number: 20100722-5031.

Comment Date: 5 p.m. Eastern Time on Thursday, August 12, 2010.

Docket Numbers: ER08-770-004.

Applicants: Longview Power.

Description: Longview Power, LLC Change-In-Status Notification.

Filed Date: 07/21/2010.

Accession Number: 20100721-5181.

Comment Date: 5 p.m. Eastern Time on Wednesday, August 11, 2010.

Docket Numbers: ER10-1357-002.

Applicants: Southern California Edison Company.

Description: Southern California Edison Company submits tariff filing per 35: TOT_Sec 8_Amendment_072210 to be effective 6/1/2010.

Filed Date: 07/22/2010.

Accession Number: 20100722-5000.

Comment Date: 5 p.m. Eastern Time on Thursday, August 12, 2010.

Docket Numbers: ER10-1424-001.

Applicants: Eagle Industrial Power Services (IL), LLC.

Description: Eagle Industrial Power Services, LLC submits a substitute original tariff sheet for rate Schedule FERC 1.

Filed Date: 07/16/2010.

Accession Number: 20100719-0206.

Comment Date: 5 p.m. Eastern Time on Friday, August 6, 2010.

Docket Numbers: ER10-1425-001.

Applicants: EDF Industrial Power Services (NY), LLC.

Description: EDF Industrial NY submits Substitute Original Sheet 1 et al. to Rate Schedule FERC No 1.

Filed Date: 07/16/2010.

Accession Number: 20100719-0205.

Comment Date: 5 p.m. Eastern Time on Friday, August 6, 2010.

Docket Numbers: ER10-1463-002.

Applicants: Midwest Independent Transmission System Operator, Inc.

Description: Midwest Independent Transmission System Operator, Inc. submits an amendment to the June filing to update re the Interconnection Agreement.

Filed Date: 07/12/2010.

Accession Number: 20100712-0206.

Comment Date: 5 p.m. Eastern Time on Monday, August 2, 2010.

Docket Numbers: ER10-1818-000.

Applicants: Public Service Company of Colorado.

Description: Public Service Company of Colorado submits tariff filing per 35: 20100720_Baseline Filing to be effective 7/20/2010.

Filed Date: 07/20/2010.

Accession Number: 20100720-5084.

Comment Date: 5 p.m. Eastern Time on Tuesday, August 10, 2010.

Docket Numbers: ER10-1854-000.

Applicants: Doswell Limited Partnership.

Description: Doswell Limited Partnership submits tariff filing per 35.12: Doswell Baseline Filing to be effective 7/21/2010.

Filed Date: 07/21/2010.

Accession Number: 20100721-5133.

Comment Date: 5 p.m. Eastern Time on Wednesday, August 11, 2010.

Docket Numbers: ER10-1855-000.

Applicants: FPL Energy Burleigh County Wind, LLC.

Description: FPL Energy Burleigh County Wind, LLC submits tariff filing per 35.12: FPLE Burleigh Baseline Filing to be effective 7/21/2010.

Filed Date: 07/21/2010.

Accession Number: 20100721-5136.

Comment Date: 5 p.m. Eastern Time on Wednesday, August 11, 2010.

Docket Numbers: ER10-1856-000.

Applicants: FPL Energy Cabazon Wind, LLC.

Description: FPL Energy Cabazon Wind, LLC submits tariff filing per 35.12: FPLE Cabazon Baseline Filing to be effective 7/21/2010.

Filed Date: 07/21/2010.

Accession Number: 20100721-5137.

Comment Date: 5 p.m. Eastern Time on Wednesday, August 11, 2010.

Docket Numbers: ER10-1857-000.

Applicants: FPL Energy Cape, LLC.

Description: FPL Energy Cape, LLC submits tariff filing per 35.12: FPLE Cape Baseline Filing to be effective 7/21/2010.

Filed Date: 07/21/2010.

Accession Number: 20100721-5147.

Comment Date: 5 p.m. Eastern Time on Wednesday, August 11, 2010.

Docket Numbers: ER10-1858-000.

Applicants: TBG Cogen Partners.

Description: TBG Cogen Partners submits tariff filing per 35.12: Market-Based Rate Tariff in Compliance with Order No. 714 to be effective 7/21/2010.

Filed Date: 07/21/2010.

Accession Number: 20100721-5149.

Comment Date: 5 p.m. Eastern Time on Wednesday, August 11, 2010.

Docket Numbers: ER10-1859-000.

Applicants: Santa Rosa Energy Center, LLC.

Description: Santa Rosa Energy Center, LLC submits tariff filing per 35.12: Ma rket-Based Rate Tariff in Compliance with Order No. 714 to be effective 7/21/2010.

Filed Date: 07/21/2010.

Accession Number: 20100721-5150.

Comment Date: 5 p.m. Eastern Time on Wednesday, August 11, 2010.

Docket Numbers: ER10-1860-000.

Applicants: Rocky Mountain Energy Center, LLC.

Description: Rocky Mountain Energy Center, LLC submits tariff filing per 35.12: Market-Based Rate Tariff in Compliance with Order No. 714 to be effective 7/21/2010.

Filed Date: 07/21/2010.

Accession Number: 20100721-5151.

Comment Date: 5 p.m. Eastern Time on Wednesday, August 11, 2010.

Docket Numbers: ER10-1861-000.

Applicants: Riverside Energy Center, LLC.

Description: Riverside Energy Center, LLC submits tariff filing per 35.12: Mar ket-Based Rate Tariff in Compliance with Order No. 714 to be effective 7/21/2010.

Filed Date: 07/21/2010.

Accession Number: 20100721-5152.

Comment Date: 5 p.m. Eastern Time on Wednesday, August 11, 2010.

Docket Numbers: ER10-1862-000.

Applicants: Power Contract Financing, L.L.C.

Description: Power Contract Financing, L.L.C. submits tariff filing per 35.12: Market-Based Rate Tariff in Compliance with Order No. 714 to be effective 7/21/2010.

Filed Date: 07/21/2010.

Accession Number: 20100721-5153.

Comment Date: 5 p.m. Eastern Time on Wednesday, August 11, 2010.

Docket Numbers: ER10-1863-000.

Applicants: Pine Bluff Energy, LLC.

Description: Pine Bluff Energy, LLC submits tariff filing per 35.12: Market-Based Rate Tariff in Compliance with Order No. 714 to be effective 7/21/2010.

Filed Date: 07/21/2010.

Accession Number: 20100721-5154.

Comment Date: 5 p.m. Eastern Time on Wednesday, August 11, 2010.

Docket Numbers: ER10-1864-000.

Applicants: Pastoria Energy Center, LLC.

Description: Pastoria Energy Center, LLC submits tariff filing per 35.12: Market-Based Rate Tariff in Compliance with Order No. 714 to be effective 7/21/2010.

Filed Date: 07/21/2010.

Accession Number: 20100721-5155.

Comment Date: 5 p.m. Eastern Time on Wednesday, August 11, 2010.

Docket Numbers: ER10-1865-000.

Applicants: South Point Energy Center, LLC.

Description: South Point Energy Center, LLC submits tariff filing per 35.12: Market-Based Rate Tariff in Compliance with Order No. 714 to be effective 7/21/2010.

Filed Date: 07/21/2010.

Accession Number: 20100721-5156.

Comment Date: 5 p.m. Eastern Time on Wednesday, August 11, 2010.

Docket Numbers: ER10-1866-000.

Applicants: New York Independent System Operator, Inc.

Description: New York Independent System Operator submits tariff filing per 35.13(a)(2)(iii): Section 205 BPCG filing—Bluvas—072110 to be effective 9/30/2010.

Filed Date: 07/21/2010.

Accession Number: 20100721-5157.

Comment Date: 5 p.m. Eastern Time on Wednesday, August 11, 2010.

Docket Numbers: ER10-1867-000.

Applicants: PCF2, LLC.

Description: PCF2, LLC submits tariff filing per 35.12: Market-Based Rate Tariff in Compliance with Order No. 714 to be effective 7/21/2010.

Filed Date: 07/21/2010.

Accession Number: 20100721-5160.

Comment Date: 5 p.m. Eastern Time on Wednesday, August 11, 2010.

Docket Numbers: ER10-1868-000; ER10-1868-001.

Applicants: WSPP Inc.

Description: WSPP Inc. submits tariff filing per 35.12: Baseline Electronic Tariff Filing to be effective 7/22/2010 and also submit and amendment to this filing.

Filed Date: 07/22/2010.

Accession Number: 20100722-5019; 20100722-5093.

Comment Date: 5 p.m. Eastern Time on Thursday, August 12, 2010.

Docket Numbers: ER10-1869-000.

Applicants: Mirant Energy Trading, LLC.

Description: Mirant Energy Trading, LLC submits tariff filing per 35.12: Market-Based Rate Tariff in Compliance with Order No. 714 to be effective 7/22/2010.

Filed Date: 07/22/2010.

Accession Number: 20100722-5038.

Comment Date: 5 p.m. Eastern Time on Thursday, August 12, 2010.

Docket Numbers: ER10-1870-000.

Applicants: Nissequogue Cogen Partners.

Description: Nissequogue Cogen Partners submits tariff filing per 35.12: Market-Based Rate Tariff in Compliance with Order No. 714 to be effective 7/22/2010.

Filed Date: 07/22/2010.

Accession Number: 20100722-5039.

Comment Date: 5 p.m. Eastern Time on Thursday, August 12, 2010.

Docket Numbers: ER10-1871-000.

Applicants: Morgan Energy Center, LLC.

Description: Morgan Energy Center, LLC submits tariff filing per 35.12: Market-Based Rate Tariff in Compliance with Order No. 714 to be effective 7/22/2010.

Filed Date: 07/22/2010.

Accession Number: 20100722-5040.

Comment Date: 5 p.m. Eastern Time on Thursday, August 12, 2010.

Docket Numbers: ER10-1872-000.

Applicants: Mobile Energy, LLC.

Description: Mobile Energy, LLC submits tariff filing per 35.12: Market-Based Rate Tariff in Compliance with Order No. 714 to be effective 7/22/2010.

Filed Date: 07/22/2010.

Accession Number: 20100722-5041.

Comment Date: 5 p.m. Eastern Time on Thursday, August 12, 2010.

Docket Numbers: ER10-1873-000.

Applicants: Metcalf Energy Center, LLC.

Description: Metcalf Energy Center, LLC submits tariff filing per 35.12: Market-Based Rate Tariff in Compliance with Order No. 714 to be effective 7/22/2010.

Filed Date: 07/22/2010.

Accession Number: 20100722-5042.

Comment Date: 5 p.m. Eastern Time on Thursday, August 12, 2010.

Docket Numbers: ER10-1874-000.

Applicants: Mankato Energy Center, LLC.

Description: Mankato Energy Center, LLC submits tariff filing per 35.12: Market-Based Rate Tariff in Compliance with Order No. 714 to be effective 7/22/2010.

Filed Date: 07/22/2010.

Accession Number: 20100722-5043.

Comment Date: 5 p.m. Eastern Time on Thursday, August 12, 2010.

Docket Numbers: ER10-1875-000.

Applicants: Los Medanos Energy Center LLC.

Description: Los Medanos Energy Center LLC submits tariff filing per 35.12: Market-Based Rate Tariff in Compliance with Order No. 714 to be effective 7/22/2010.

Filed Date: 07/22/2010.

Accession Number: 20100722-5044.

Comment Date: 5 p.m. Eastern Time on Thursday, August 12, 2010.

Docket Numbers: ER10-1876-000.

Applicants: Los Esteros Critical Energy Facility, LLC.

Description: Los Esteros Critical Energy Facility, LLC submits tariff filing per 35.12: Market-Based Rate Tariff in Compliance with Order No. 714 to be effective 7/22/2010.

Filed Date: 07/22/2010.

Accession Number: 20100722-5045.

Comment Date: 5 p.m. Eastern Time on Thursday, August 12, 2010.

Docket Numbers: ER10-1877-000.

Applicants: Hermiston Power, LLC.

Description: Hermiston Power, LLC submits tariff filing per 35.12: Market-Based Rate Tariff in Compliance with Order No. 714 to be effective 7/22/2010.

Filed Date: 07/22/2010.

Accession Number: 20100722-5046.

Comment Date: 5 p.m. Eastern Time on Thursday, August 12, 2010.

Docket Numbers: ER10-1878-000.

Applicants: Goose Haven Energy Center, LLC.

Description: Goose Haven Energy Center, LLC submits tariff filing per 35.12: Market-Based Rate Tariff in Compliance with Order No. 714 to be effective 7/22/2010.

Filed Date: 07/22/2010.

Accession Number: 20100722-5047.

Comment Date: 5 p.m. Eastern Time on Thursday, August 12, 2010.

Docket Numbers: ER10-1879-000.

Applicants: Wabash Valley Power Association, Inc.

Description: Wabash Valley Power Association, Inc. submits tariff filing per 35: WVPA Baseline Formulary Rate Tariff to be effective 7/22/2010.

Filed Date: 07/22/2010.

Accession Number: 20100722-5048.

Comment Date: 5 p.m. Eastern Time on Thursday, August 12, 2010.

Docket Numbers: ER10-1880-000.

Applicants: MidAmerican Energy Company.

Description: MidAmerican Energy Company submits an agreement for Wholesale Distribution Service.

Filed Date: 07/22/2010.

Accession Number: 20100721-0215.

Comment Date: 5 p.m. Eastern Time on Thursday, August 12, 2010.

Docket Numbers: ER10-1881-000.

Applicants: Stuyvesant Energy LLC.

Description: Stuyvesant Energy, LLC submits the Application for Market-Based Rate Authorization and Request for Waivers and Blanket Approval and request for Expedited Treatment.

Filed Date: 07/22/2010.

Accession Number: 20100721-0214.

Comment Date: 5 p.m. Eastern Time on Thursday, August 12, 2010.

Docket Numbers: ER10-1882-000.

Applicants: Wisconsin River Power Company.

Description: Wisconsin River Power Company submits tariff filing per 35.12: Market Based Rate Tariff, Volume No. 1 to be effective 7/22/2010.

Filed Date: 07/22/2010.

Accession Number: 20100722-5064.

Comment Date: 5 p.m. Eastern Time on Thursday, August 12, 2010.

Docket Numbers: ER10-1883-000.

Applicants: Gilroy Energy Center, LLC.

Description: Gilroy Energy Center, LLC submits tariff filing per 35.12: Market-Based Rate Tariff in Compliance with Order No. 714 to be effective 7/22/2010.

Filed Date: 07/22/2010.

Accession Number: 20100722-5094.

Comment Date: 5 p.m. Eastern Time on Thursday, August 12, 2010.

Docket Numbers: ER10-1884-000.

Applicants: Geysers Power Company, LLC.

Description: Geysers Power Company, LLC submits tariff filing per 35.12: Market-Based Rate Tariff in Compliance with Order No. 714 to be effective 7/22/2010.

Filed Date: 07/22/2010.

Accession Number: 20100722-5095.

Comment Date: 5 p.m. Eastern Time on Thursday, August 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-18978 Filed 8-2-10; 8:45 am]

BILLING CODE 6717-01-P